DEPARTMENT OF AGRICULTURE

Natural Resources Conservation Service

Notice of Meeting of the Agricultural Air Quality Task Force

AGENCY: Natural Resources Conservation Service, USDA.

ACTION: Notice of meeting.

SUMMARY: The Department of Agriculture (USDA), Agricultural Air Quality Task Force (AAQTF) will meet to continue discussions on critical air quality issues relating to agriculture. Special emphasis will be placed on obtaining a greater understanding about the relationship between agricultural production and air quality. A draft agenda is included with this notice. The meeting is open to the public.

DATES: The AAQTF meeting will convene on Wednesday, August 1, 2012, from 8:00 a.m. to 5:00 p.m., and Thursday, August 2, 2012, from 8:00 a.m. to 4:00 p.m. A portion of the meeting is reserved for public comment. See the procedure section of this notice.

ADDRESSES: The meeting will be held at the Holiday Inn Syracuse/Liverpool, 441 Electronics Parkway, Liverpool, New York 13088; telephone: (315) 457-1122.

FOR FURTHER INFORMATION CONTACT: Questions and comments should be directed to Elvis L. Graves, Designated Federal Official, Department of Agriculture, Natural Resources Conservation Service, 2901 East Lee Street, Suite 2100, Greensboro, North Carolina 27401; telephone: (336) 370-3352; fax: (336) 273-8132; or email: elvis.graves@wdc.usda.gov.

SUPPLEMENTARY INFORMATION: Notice of this meeting is given under the Federal Advisory Committee Act, 5 U.S.C. App. 2. Additional information concerning AAQTF, including revisions to the meeting agenda that may occur after this Federal Register Notice is published, may be found at: http://www.nrcs.usda.gov/wps/portal/nrcs/main/national/air.

Draft Agenda

Meeting of AAQTF

August 1-2, 2012

A. Welcome to Syracuse, New York USDA, NRCS, and local officials

B. Review Minutes and Action Items from Last Meeting

C. USDA Agency and Environmental Protection Agency Updates

D. Air Quality Issues/Concerns Discussion

• Continued discussion of goals for Task Force

• Anaerobic Digester Technologies

• Odor Management Technologies

• Committee Updates

E. Next Meeting, time/place

Note: Public Input (time will be reserved for public comment. Individual presentations will be limited to 5 minutes).

Please note that the sequence of events in the agenda is subject to change to accommodate potential changes in schedules of expected speakers and extended discussions.

Procedural

This meeting is open to the public. At the discretion of the Chair, members of the public may present oral presentations during the meeting. Persons wishing to make an oral presentation should notify Elvis Graves at (336) 370-3352 no later than July 20, 2012. Those wishing to distribute written materials at the meeting (in conjunction with spoken comments) must bring at least 35 copies of the materials with them. Written materials for distribution to AAQTF members prior to the meeting must be submitted and received by Elvis Graves no later than July 20, 2012.

Information on Services for Individuals With Disabilities

For information on facilities or services for individuals with disabilities or to request special assistance at the meeting, please contact Elvis Graves. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA Target Center at (202) 720-2000 (voice and TDD).

Signed this 2nd day of July, 2012, in Washington, DC.
Dave White,
Chief, Natural Resources Conservation Service.

[FR Doc. 2012-16975 Filed 7-11-12; 8:45 am]

BILLING CODE 3410-10-P